DEPARTMENT OF HEALTH AND HUMAN SERVICES

Centers for Disease Control and Prevention

Disease, Disability, and Injury Prevention and Control Special Emphasis Panels (SEP): Initial Review

The meeting announced below concerns Conducting Public Health Research in Kenya, FOA GH10-003; Conducting Public Health Research in Thailand by the Ministry of Public Health (MOPH), FOA GH11-002; Conducting Public Health Research in China, FOA GH12-005; Strengthening Disease Prevention Research Capacity for Public Health Action in Guatemala and the Central American Region, FOA GH13-001; Detecting Etiologies of Emerging Infectious Diseases at the Regional Level—Western Ghat Region of Karnataka and Kerala, India, FOA GH13-003; Strengthening Surveillance for Japanese Encephalitis in India, FOA GH13-004; and Research and Technical Assistance for Public Health Interventions in Haiti to Support Post-earthquake Reconstruction, Cholera and HIV/AIDS, FOA GH13-006, initial review.

Correction: The notice was published in the Federal Register on April 4, 2013, Volume 78, Number 65, Pages 20319-20320. The meeting announced and matters to be discussed should read as follows:

Conducting Public Health Research in Kenya, FOA GH10-003; Conducting Public Health Research in Thailand by the Ministry of Public Health (MOPH), FOA GH11-002; Conducting Public Health Research in China, FOA GH12-005; Strengthening Disease Prevention Research Capacity for Public Health Action in Guatemala and the Central American Region, FOA GH13-001; Detecting Etiologies of Emerging Infectious Diseases at the Regional Level—Western Ghat Region of Karnataka and Kerala, India, FOA GH13-003; Strengthening Surveillance for Japanese Encephalitis in India, FOA GH13-004; and Research and Technical Assistance for Public Health Interventions in Haiti to Support Post-earthquake Reconstruction, Cholera and HIV/AIDS, FOA GH13-006.

Matters To Be Discussed: The meeting will include the initial review, discussion, and evaluation of applications received in response to “Conducting Public Health Research in Kenya, FOA GH10-003; Conducting Public Health Research in Thailand by the Ministry of Public Health (MOPH), FOA GH11-002; Conducting Public Health Research in China, FOA GH12-005; Strengthening Disease Prevention Research Capacity for Public Health Action in Guatemala and the Central American Region, FOA GH13-001; Detecting Etiologies of Emerging Infectious Diseases at the Regional Level—Western Ghat Region of Karnataka and Kerala, India, FOA GH13-003; Strengthening Surveillance for Japanese Encephalitis in India, FOA GH13-004; and Research and Technical Assistance for Public Health Interventions in Haiti to Support Post-earthquake Reconstruction, Cholera and HIV/AIDS, FOA GH13-006, initial review.”

Contact Person for More Information: Lata Kumar, Scientific Review Officer, CGH Science Office, Center for Global Health, CDC, 1600 Clifton Road, NE., Mailstop D-69, Atlanta, Georgia 30033, Telephone (404) 639-7618.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2013-08716 Filed 4-12-13; 8:45 am]

BILLING CODE 4163-18-P